DEPARTMENT OF LABOR

Employment and Training Administration

[TA-W-70,695]

Leggett and Platt, Whittier, CA; Notice of Termination of Investigation

Pursuant to Section 221 of the Trade Act of 1974, as amended, an investigation was initiated on May 27, 2009, in response to a petition filed by the company on behalf of workers of Leggett and Platt, Whittier, California.

The petitioners have requested that the petition be withdrawn. Consequently, the investigation has been terminated.

Signed at Washington, DC, this 25th day of June 2009.
Elliott S. Kushner,
Certifying Officer, Division of Trade Adjustment Assistance.

[FR Doc. E9-15759 Filed 7-2-09; 8:45 am]

BILLING CODE 4510-FN-P